DEPARTMENT OF THE TREASURY

Submission for OMB Review; Comment Request

August 27, 2012.

The Department of the Treasury will submit the following information collection request to the Office of Management and Budget (OMB) for review and clearance in accordance with the Paperwork Reduction Act of 1995, Public Law 104-13, on or after the date of publication of this notice.

DATES: Comments should be received on or before October 1, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Internal Revenue Service (IRS)

OMB Number: 1545-0169.

Type of Review: Extension without change of a currently approved collection.

Title: Form 4461, Application for Approval of Master or Prototype Defined Contribution Plan; Form 4461-A, Application for Approval of Master or Prototype Defined Benefit Plan; Form 4461-B, Application for Approval of Master or Prototype or Volume Submitter Plans.

Form: Forms 4461, 4461-A, 4461-B.

Abstract: The IRS uses these forms to determine from the information submitted whether the applicant plan qualifies under section 401(a) of the Internal Revenue Code for plan approval. The application is also used to determine if the related trust qualifies for tax exempt status under Code section 501(a).

Affected Public: Private Sector: Business or other for-profits.

Estimated Total Burden Hours: 65,765.

OMB Number: 1545-0202.

Type of Review: Revision of a currently approved collection.

Title: Form 5310, Application for Determination for Terminating Plan; Form 6088, Distributable Benefits from Employee Pension Benefit Plans.

Form: 5310, 6088.

Abstract: Employers who have qualified deferred compensation plans can take an income tax deduction for contributions to their plans. IRS uses the data on Forms 5310 and 6088 to determine whether a plan still qualifies and whether there is any discrimination in benefits.

Affected Public: Private Sector: Business or other for-profits.

Estimated Total Burden Hours: 1,718,300.

OMB Number: 1545-0770.

Type of Review: Extension without change of a currently approved collection.

Title: FI-182-78 (NPRM)—Transfers of Securities Under Certain Agreements.

Abstract: Section 1058 of the Internal Revenue Code provides tax-free treatment for transfers of securities pursuant to a securities lending agreement. The agreement must be in writing and is used by the taxpayer, in a tax audit situation, to justify no recognition treatment of gain or loss on the exchange of the securities.

Affected Public: Private Sector: Business or other for-profits.

Estimated Total Burden Hours: 9,781.

OMB Number: 1545-0919.

Type of Review: Extension without change of a currently approved collection.

Title: Limitations on Percentage Depletion in the Case of Oil and Gas Wells (PS-105-75) Final.

Abstract: The regulations require each partner to separately keep records of his share of the adjusted basis of partnership oil and gas property and require each partnership, trusts, estate, and operator to provide information necessary to certain persons to compute depletion with respect to oil and gas.

Affected Public: Private Sector: Business or other for-profits.

Estimated Total Burden Hours: 1.

OMB Number: 1545-1049.

Type of Review: Extension without change of a currently approved collection.

Title: IA-7-88, (T.D. 8379) Excise Tax Relating to Gain or Other Income Realized by Any Person on Receipt of Greenmail.

Abstract: The final regulations provide rules relating to the manner and method of reporting and paying the nondeductible 50 percent tax imposed by section 5881 of the Internal Revenue Code with respect to the receipt of greenmail.

Affected Public: Private Sector: Business or other for-profits.

Estimated Total Burden Hours: 2.

OMB Number: 1545-1233.

Type of Review: Extension without change of a currently approved collection.

Title: Adjusted Current Earnings (IA-14-91)(Final).

Abstract: This regulation affects business and other for profit institutions. This information is required by the IRS to ensure the proper application of section 1.56(g)-1 of the regulation. It will be used to verify that taxpayers have properly elected the benefits of section 1.56(g)-1(r) of the regulation.

Affected Public: Private Sector: Business or other for-profits.

Estimated Total Burden Hours: 1,000.

OMB Number: 1545-1347.

Type of Review: Extension without change of a currently approved collection.

Title: FI-7-94 and FI-36-92 (Final) Arbitrage Restrictions on Tax-Exempt Bonds.

Abstract: The Code limits the ability of state and local government issuers of tax-exempt bonds to earn and/or keep arbitrage profits earned with bond proceeds. This regulation requires recordkeeping of certain interest rate hedges so that the hedges are taken into account in determining those profits.

Affected Public: State, Local and Tribal Governments.

Estimated Total Burden Hours: 42,050.

OMB Number: 1545-1480.

Type of Review: Extension without change of a currently approved collection.

Title: REG-107047-00 (TD 8985—Final), Hedging Transactions.

Abstract: The information is required by the IRS to aid it in administering the law and to prevent manipulation. The information will be used to verify that a taxpayer is properly reporting its business hedging transactions.

Affected Public: Private Sector: Business or other for-profits.

Estimated Total Burden Hours: 171,050.

OMB Number: 1545-1504.

Type of Review: Extension without change of a currently approved collection.

Title: Application for Taxpayer Assistance Order (ATAO).

Abstract: This form is used by taxpayers to apply for relief from a significant hardship which may have already occurred or is about to occur if the IRS takes or fails to take certain actions. This form is submitted to the IRS Taxpayer Advocate Office in the state or city where the taxpayer lives.

Affected Public: Individuals or Households.

Estimated Total Burden Hours: 46,500.

OMB Number: 1545-1510.

Type of Review: Extension without change of a currently approved collection.

Title: Revenue Procedure 2004-53; Procedure for filing Forms W-2 is certain Acquisitions (Rev Proc. 96-60).

Abstract: Information is required by the Internal Revenue Service to assist predecessor and successor employers in complying with the reporting requirements under Code sections 6051 and 6011 for Forms W-2 and 941.

Affected Public: Private Sector: Business or other for-profits.

Estimated Total Burden Hours: 110,700.

OMB Number: 1545-1531.

Type of Review: Extension without change of a currently approved collection.

Title: Notice 97-19 and Notice 98-34 Guidance for Expatriates Under Sections 877, 2501, 2107, and 6039F.

Abstract: Notice 97-19 and Notice 98-34 provide guidance for individuals affected by amendments to Code sections 877, 2107, and 2501, as amended by the Health Insurance Portability and Accountability Act. These notices also provide guidance on Code section 6039F.

Affected Public: Individuals or Households.

Estimated Total Burden Hours: 6,525.

OMB Number: 1545-1533.

Type of Review: Extension without change of a currently approved collection.

Title: Revenue Procedure 97-22-26 CFR 601.105 Examination of returns and claims for refund, credits, or abatement, determination of correct tax liability.

Abstract: The information requested in Revenue Procedure 97-22 under sections 4 and 5 is required to ensure that records maintained in an electronic storage system will constitute records within the meaning of section 6001.

Affected Public: Private Sector: Business or other for-profits.

Estimated Total Burden Hours: 1,000,400.

OMB Number: 1545-1540.

Type of Review: Extension without change of currently approved collection.

Title: REG-125071-06 (TD 9308)—Reporting Requirements for Widely Held Fixed Investment Trusts (TD 9308), previously (TD 9279)

Abstract: The regulations clarify the reporting requirements of trustees and middlemen involved with widely held fixed investment trusts.

Affected Public: Private Sector: Business or other for-profits.

Estimated Total Burden Hours: 2,400.

OMB Number: 1545-1617.

Type of Review: Extension without change of currently approved collection.

Title: REG-124069-02 (Final) Section 6038—Returns Required with Respect to Controlled Foreign Partnerships; REG-118966-97 (Final) Information Reporting with Respect to Certain Foreign Partnership.

Abstract: REG-124069-02 Treasury Regulation Sec. 1.6038-3 requires certain United States persons who own interests in controlled foreign partnership to annually report information to the IRS on Form 8865. This regulation amends the reporting rules under Treasury Regulation section 1.6038-e to provide that a U.S. person must follow the filing requirements that are specified in the instructions for Form 8865 when the U.S. person must file Form 8865 and the foreign partnership completes and files Form 1065 or Form 1065-B. REG-118966-97 Section 6038 requires certain U.S. persons who own interest in controlled foreign partnerships.

Affected Public: Private Sector: Business or other for-profits.

Estimated Total Burden Hours: 500.

OMB Number: 1545-1667.

Type of Review: Extension without change of currently approved collection.

Title: Revenue Procedure 99-50 Combined Information Reporting.

Abstract: The revenue procedure permits combined information reporting by a successor “business entity” (i.e., a corporation, partnership, or sole proprietorship) in certain situations following a merger or an acquisition. The successor must file a statement with the Internal Revenue Service indicating what forms are being filed on a combined basis.

Affected Public: Private Sector: Business or other for-profits.

Estimated Total Burden Hours: 500.

OMB Number: 1545-1676.

Type of Review: Extension without change of currently approved collection.

Title: REG-113572-99 (TD 8933) Qualified Transportation Fringe Benefits.

Abstract: These regulations provide guidance to employers that provide qualified transportation fringe benefits under section 132(f), including guidance to employers that provide cash reimbursement for qualified transportation fringes and employers that offer qualified transportation fringes in lieu of compensation. Employers that provide cash reimbursement are required to keep records of documentation received from employees who receive reimbursement. Employers that offer qualified transportation fringes in lieu of compensation are required to keep records of employee compensation reduction elections.

Affected Public: Private Sector: Business or other for-profits.

Estimated Total Burden Hours: 12,968,728.

OMB Number: 1545-1678.

Type of Review: Extension without change of currently approved collection.

Title: REG-161424-01 (Final), Information Reporting for Qualified Tuition and Related Expenses; Magnetic Media Filing Requirements for Information Returns; REC-105316-98 (Final) Information.

Abstract: These regulations relate to the information reporting requirements in section 6050S of the Internal Revenue Code for payments of qualified tuition and related expenses and interest on qualified education loans. These regulations provide guidance to eligible education institutions, insurers, and payees required to file information returns and to furnish information statements under section 6050S.

Affected Public: Private Sector: Not-for-profit institutions.

Estimated Total Burden Hours: 1.

OMB Number: 1545-1684.

Type of Review: Extension without change of currently approved collection.

Title: Revenue Procedure 2009-14, Prefiling Agreements Program (Superseded 2007-17).

Abstract: Revenue Procedure 2009-14 permits a taxpayer under the jurisdiction of the Large and Mid-Size Business Division to request that the Service examines specific issues relating to tax returns before those returns are filed. This revenue procedure provides the framework within which a taxpayer and the Service may work together in a cooperative environment to resolve, after examination, issues accepted into the program.

Affected Public: Private Sector: Businesses or other for-profits.

Estimated Total Burden Hours: 13,134.

OMB Number: 1545-1810.

Type of Review: Extension without change of currently approved collection.

Title: Credit for Small Employer Pension Plan Startup Costs.

Form: 8881.

Abstract: Qualified small employers use Form 8881 to request a credit for start-up costs related to eligible retirement plans. Form 8881 implements section 45E, which provides a credit based on costs incurred by an employer in establishing or administering an eligible employer plan or for the retirement related education of employees with respect to the plan. The credit is 50% of the qualified costs for the tax year, up to a maximum credit of $500 for the first tax year and each of the two subsequent tax years.

Affected Public: Private Sector: Businesses or other for-profits.

Estimated Total Burden Hours: 235,335.

OMB Number: 1545-1815.

Type of Review: Extension without change of currently approved collection.

Title: Coverdell ESA Contribution Information.

Form: 5498-ESA.

Abstract: Form 5498-ESA is used by trustees and issuers of Coverdell Education Savings accounts to report contributions made to these accounts to beneficiaries.

Affected Public: Private Sector: Businesses or other for-profits.

Estimated Total Burden Hours: 18,000.

OMB Number: 1545-1824.

Type of Review: Extension without change of currently approved collection.

Title: REG-139768-02 (Final) Excise Tax Relating to Structured Settlement Factoring Transactions.

Abstract: The regulations provide rules relating to the manner and method of reporting and paying the 40 percent excise tax imposed by section 5891 of the Internal Revenue Code with respect to acquiring of structured payment rights in a structured settlement factoring transaction.

Affected Public: Private Sector: Businesses or other for-profits.

Estimated Total Burden Hours: 2.

OMB Number: 1545-1843.

Type of Review: Extension without change of currently approved collection.

Title: TD 9207 (final)—Assumptions of Partner Liabilities; REG-106736-00 (NPRM).

Abstract: In order to be entitled to a deduction with respect to the economic performance of a contingent liability that was contributed by a partner and assumed by a partnership, the partner, or former partner of the partnership, must receive notification of economic performance of the contingent liability from the partnership or other partner assuming the liability.

Affected Public: Private Sector: Businesses or other for-profits.

Estimated Total Burden Hours: 125.

OMB Number: 1545-1968.

Type of Review: Extension without change of currently approved collection.

Title: Alternative Tax on Qualifying Shipping Activities.

Form: 8902.

Abstract: Form 8902 is used to elect the alternative tax on notional income from qualifying shipping activities and to figure the alternative tax.

Affected Public: Private Sector: Businesses or other for-profits.

Estimated Total Burden Hours: 3,056.

OMB Number: 1545-1980.

Type of Review: Extension without change of currently approved collection.

Title: Notice 2007-70—Charitable Contributions of Certain Motor Vehicles, Boats, and Airplanes (Reporting requirements under Sec. 170(f)(12)(D)).

Abstract: Charitable organizations are required to send an acknowledgement of car donations to the donor and to the Service. The purpose of is to prevent donors from taking inappropriate deductions.

Affected Public: Private Sector: Not-for-profit institutions.

Estimated Total Burden Hours: 21,930.

OMB Number: 1545-1982.

Type of Review: Extension without change of currently approved collection.

Title: Distilled Spirits Credit.

Form: 8906.

Abstract: Form 8906, Distilled Spirits Credit, was developed to carry out the provisions of IRC section 5011(a). This section allows eligible wholesalers and persons subject to IRC section 5055 an income tax credit for the average cost of carrying excise tax on bottled distilled spirits. The form provides a means for the eligible taxpayer to compute the amount of credit.

Affected Public: Private Sector: Businesses or other for-profits.

Estimated Total Burden Hours: 558.

OMB Number: 1545-1994.

Type of Review: Extension without change of currently approved collection.

Title: Notice 2008-36: Amplification of Notice 2006-28 Energy Efficient Homes Credit; Manufactured Homes.

Abstract: This notice supersedes Notice 2006-28 by substantially republishing the guidance contained in that publication. This notice clarifies the meaning of the terms equivalent rating network and eligible contractor, and permits calculation procedures other than those identified in Notice 2006-28 to be used to calculate energy consumption. Finally, this notice clarifies the process for removing software from the list of approved software and reflects the extension of the tax credit through December 31, 2008. Notice 2006-28, as updated, provided guidance regarding the calculation of heating and cooling energy consumption for purposes of determining the eligibility of a manufactured home for the New Energy Efficient Home Credit under Internal Revenue Code § 45L. Notice 2006-28 also provided guidance relating to the public list of software programs that may be used to calculate energy consumption. Guidance relating to dwelling units other than manufactured homes is provided in Notice 2008-35.

Affected Public: Individuals and Households.

Estimated Total Burden Hours: 60.

OMB Number: 1545-2071.

Type of Review: Extension without change of currently approved collection.

Title: TE/GE Compliance Check Questionnaires.

Abstract: Compliance questionnaires are an invaluable tool for obtaining supplemental information to determine the compliance of specific entities without the burden for the taxpayer or the cost to the IRS of a traditional, full-scale audit. The information collected will be used to improve the quality of data available for monitoring compliance, to correct identified instances of non-compliance and to determine where additional guidance, education or enforcement resources are most needed to prevent future non-compliance.

Affected Public: Private Sector: Not-for-profit institutions.

Estimated Total Burden Hours: 37,500.

OMB Number: 1545-2109.

Type of Review: Extension without change of currently approved collection.

Title: Notice of Election of an Agreement to Special Lien Under Internal Revenue Code Section 6324A and Regulations.

Form: 13925.

Abstract: TD 7941: Internal Revenue Code section 6324A permits the executor of a decedent's estate to elect a lien on section 6166 property in favor of the United States in lieu of a bond or personal liability if an election under section 6166 was made and the executor files an agreement under section 6324A(c). This regulation clarifies the procedures for complying with the statutory requirements. Form 13925: Under IRC section 6166, an estate may elect to pay the estate tax in installments over 14 years if certain conditions are met. If the IRS determines that the government's interest in collecting estate tax is sufficiently at risk, it may require the estate provide a bond. Alternatively, the executor may elect to provide a lien in lieu of bond. Under section 6324A(c) and the regulations there under (OMB 1545-0757), to make this election the executor must submit a lien agreement to the IRS. Form 13925 is a form lien agreement that executors may use for this purpose.

Affected Public: Individuals or Households.

Estimated Total Burden Hours: 510.

OMB Number: 1545-2119.

Type of Review: Extension without change of currently approved collection.

Title: Notice 2008-79, Tax-exempt Housing Bonds and 2008 Housing Legislation.

Abstract: This notice provides guidance regarding certain provisions affecting tax-exempt bonds and related matters under the Housing Assistance Tax Act of 2008, Division C of Public Law 110-289, enacted on July 30, 2008 (“2008 Housing Act”). Section 3021 of the 2008 Housing Act amends §§ 143 and 146 of the Internal Revenue Code (“Code”) to provide a temporary $11 billion increase in the annual private activity bond volume cap under § 146 for qualified housing issues and to allow the use of qualified mortgage bonds to refinance certain subprime mortgage loans. (Except as otherwise provided, section references in this notice are to the Code.) This notice provides guidance on allocations, carryforwards, information reporting, and uses of this additional bond volume cap, and guidance on the use of qualified mortgage revenue bonds to refinance certain subprime mortgage loans. In addition, § 3005 of the 2008 Housing Act amends § 142(d)(2)of the Code to disregard basic housing allowance payments to military members at certain military bases for purposes of applicable low-income set-aside income limitations under § 42 and § 142. This notice lists certain affected military bases. Section 3023 of the 2008 Housing Act provides temporary authority to Federal Home Loan Banks to guarantee certain tax-exempt bonds. This notice provides guidance on tax-exempt bonds eligible for such guarantees.

Affected Public: State, Local, and Tribal Governments.

Estimated Total Burden Hours: 300.

OMB Number: 1545-2131.

Type of Review: Extension without change of currently approved collection.

Title: Application for Extension of Time for Payment of Tax.

Form: 1127, 1127-A.

Abstract: Under IRC 6161, individual taxpayers and business taxpayers are allowed to request an extension of time for payment of tax shown or required to be shown on a return or for a tax due on a notice of deficiency. In order to be granted this extension, they must file Form 1127, providing evidence of undue hardship, inability to borrow, and collateral to ensure payment of the tax. Under IRC 6161 and the Service's Fresh Start initiative, individual taxpayers are allowed to request an extension of time for payment of tax shown or required to be shown on a return for 2011. In order to be granted this extension, they must file Form 1127-A, self-certifying hardship due to the current economic downturn.

Affected Public: Private Sector: Businesses or other for-profits.

Estimated Total Burden Hours: 8,680.

OMB Number: 1545-2132.

Type of Review: Extension without change of currently approved collection.

Title: Carbon Dioxide Sequestration Credit.

Form: 8933.

Abstract: Form 8933 will provide a standardized format to claim this credit to an eligible person that captures, after October 3, 2008, qualified carbon dioxide at a qualified facility and physically or contractually ensures the disposal of or the use as a tertiary injectant of the qualified carbon dioxide.

Affected Public: Private Sector: Businesses or other for-profits.

Estimated Total Burden Hours: 215.

Robert Dahl,
Treasury PRA Clearance Officer.

[FR Doc. 2012-21402 Filed 8-29-12; 8:45 am]

BILLING CODE 4830-01-P